DEPARTMENT OF ENERGY

Federal Energy Regulatory Commission

[ Docket No. RP12-318-001]

Texas Eastern Transmission, L.P.; Notice of Response

Take notice that on March 19, 2012, pursuant to the February 16, 2012 order of the Federal Energy Regulatory Commission in the above-captioned proceeding Texas Eastern Transmission, LP (Texas Eastern) submits its response to show cause why it should not be required to file revisions to its tariff concerning reservation charge credits.

Any party desiring to file responses to Texas Eastern's March 19, 2012 submission must do so on or before 5 p.m. Eastern time on April 18, 2012.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed docket(s). For assistance with any FERC Online service, please email FERCOnlineSupport@ferc.gov. or call (866) 208-3676 (toll free). For TTY, call (202) 502-8659.

Comment Date: 5 p.m. Eastern time on Wednesday, April 18, 2012.

Dated: April 10, 2012.
Kimberly D. Bose,
Secretary.

[FR Doc. 2012-9121 Filed 4-16-12; 8:45 am]

BILLING CODE 6717-01-P